DEPARTMENT OF DEFENSE

Office of the Secretary

[Transmittal No. 19-0L]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0L with attached Policy Justification and Sensitivity of Technology.

Dated: December 12, 2019.
Aaron T. Siegel,
Alternate OSD Federal Register Liaison Officer, Department of Defense.

Transmittal No. 19-0L

REPORT OF ENHANCEMENT OR UPGRADE OF SENSITIVITY OF TECHNOLOGY OR CAPABILITY (SEC. 36(B)(5)(C), AECA)

(i) Purchaser: Government of Australia

(ii) Sec. 36(b)(1), AECA Transmittal No.: 15-22

Date: April 28, 2015

Military Department: Navy

(iii) Description: On April 28, 2015, Congress was notified by Congressional certification transmittal number 15-22 of the possible sale, under Section 36(b)(1) of the Arms Export Control Act, of follow-on sustainment support and services for twenty four (24) AF/A-18Fs Super Hornet and twelve (12) AEA-18G Growler aircraft. The sustainment efforts included software and hardware updates, Engineering Change Proposals, System Configuration upgrades, system integration and testing, engine component improvement, tools and test equipment, spare and repair parts, support equipment, publications and technical documentation, personnel training and training equipment, aircrew trainer devices upgrades, U.S. Government and contractor technical assistance, and other related elements of logistics and program support. The estimated cost was $1.5 billion.

This transmittal reports Australia's request for additional sustainment and upgrades to the Australian F/A-18E/F fleet. The upgrades include up to twenty (20) AN/ASG-34(V) Infrared Search and Track (IRST) Block II systems; up to sixty (60) Distributed Targeting processor—Networked (DTP-N) assets; and up to fifty-two (52) Multifunctional Information Distribution System Joint Tactical Radio Systems (MIDS/JTRS) (6). The sale also includes system integration and testing, software development, spares, support equipment and government and contracting technical assistance. The overall MDE value will increase to $260 million and the overall total value will increase to $1.81 billion.

(iv) Significance: This proposed sale will allow Australia to effectively maintain its current force projection capability that enhances interoperability with U.S. forces well into the future.

(v) Justification: This proposed sale supports the foreign policy and national security of the United States by improving the security of an important major non-NATO ally and partner who contributes significantly to peacekeeping, humanitarian, and combat operations around the world.

(vi) Sensitivity of Technology: The Infrared Search and Track (IRST) system is a long-wave infrared sensor, integrated on a modified centerline fuel tank, that provides a passive, out-of-band, Alternative Fire Control System (AFCS) capable of detecting, tracking and engaging airborne targets at long range in a heavy Electronic Attack (EA) or radar-denied environment. The IRST Block II is a modified version of the IRST Block I, providing longer range detection over a wider field and enhanced warfighting capability. IRST provides critical capabilities in meeting future threats.

Distributed Targeting Processor—Networked (DTP-N) is an upgrade to the Distributed Targeting System (DTS) providing internet protocol (IP) to the F/A-18E/F and EA-18G, enabling connectivity to advanced tactical networks. The DTP-N upgrade provides the foundation for a majority of the future flight plan strike capabilities, which are related to improved targeting and networking.

DTP-N is networking hardware required for tactical use of IP based waveforms. This upgrade also provides Multi-Level Security (MLS) features, offering new capabilities to the platform through increased security assurances on data separation and data transfer.

Multifunctional Information Distribution System Joint Tactical Radio System (MIDS/JTRS) (6) provides a high capacity, low latency Internet Protocol (IP) based waveform that can quickly transmit large amounts of data. Advanced algorithms allow cooperative detection and engagement of a wider array of targets, improving fused track accuracy and increasing lethality/survivability through Situational Awareness.

(vii) Date Report Delivered to Congress: September 12, 2019

[FR Doc. 2019-27277 Filed 12-17-19; 8:45 am]

BILLING CODE 5001-06-P